DEPARTMENT OF TRANSPORTATION

Federal Transit Administration

Early Scoping Notice

AGENCY: Federal Transit Administration, U.S. Department of Transportation, and the Detroit Department of Transportation.

ACTION: Early Scoping Notice for the Detroit Transit Options for Growth Study.

SUMMARY: The Federal Transit Administration (FTA) and the Detroit Department of Transportation (DDOT) are issuing this early scoping notice to advise agencies and the public that they intend to explore, in the context of the Council on Environmental Quality's early scoping process, alternative means of implementing rapid transit improvements in the Detroit area in Wayne County, Michigan. Three alignments, described below, will be examined, largely to explore their potential for implementation of a major transit capital investment (New Start). Public scoping meetings have been planned and are announced below. This process may result in selection of a locally preferred alternative (proposed action). If preparation of an environmental impact statement is warranted, this early scoping process is intended to satisfy standard National Environmental Policy Act scoping requirements, except that comments on the purpose and need for the proposed action, the range of alternatives to be considered, and potentially significant impacts, as described in a forthcoming notice of intent, will be invited and considered.

DATES: One interagency scoping meeting and four public scoping meetings will be conducted on the following dates and times at the locations indicated:

Interagency Scoping Meeting

Friday, July 27, 2007, 1 p.m. to 3 p.m., Detroit Department of Transportation, 1301 East Warren, Detroit, Michigan 48207.

Public Scoping Meetings

Wednesday, July 25, 2007, 11 a.m. to 2 p.m., The Guardian Building, Mezzanine Lobby, 500 Griswold, Detroit, Michigan 48226.

Wednesday, July 25, 2007, 5 p.m. to 8 p.m., Wayne State University, Welcome Center, 42 West Warren Avenue, Detroit, Michigan 48202.

Thursday, July 26, 2007, 5 p.m. to 8 p.m., Wayne County Community College, Cooper Community Center, 5901 Conner, Detroit, MI 48213.

Saturday, July 28, 2007, 10 a.m. to 1 p.m., Ford Community and Performing Arts Center, Studio A, 15801 Michigan Avenue, Dearborn, MI 48126.

The public scoping meetings will begin with an hour-long open house allowing the public to discuss the scoping process and study options with project staff. Handouts describing alignments, study options, and other aspects of contemplated rapid transit improvements will be available at the meetings. The meetings will be facilitated and a court reporter will be present to record oral comments which are welcomed. The scoping information will also be available on the project Web site at http://www.dtogs.com. American Sign Language, Arabic, and Spanish interpreters will be present at the public scoping meetings. The buildings are accessible to persons with disabilities.

ADDRESSES: Written comments on this notice should be submitted by August 29, 2007 to: Mr. Tim Roseboom, Project Manager, Detroit Department of Transportation, 1301 East Warren, Detroit, Michigan 48207, Telephone: (313) 833-7973, Fax: (313) 833-5493, E-mail: TimRos@detroitmi.gov.

FOR FURTHER INFORMATION CONTACT: Mr. Bill Wheeler, Community Planner, Federal Transit Administration (FTA), Region V, 200 West Adams Street, Suite 320, Chicago, Illinois 60606-5232, Telephone: (312) 353-2789.

SUPPLEMENTARY INFORMATION: Early scoping is a National Environmental Policy Act (NEPA) process that is particularly useful in situations where, as here, a proposed action (the locally preferred alternative) has not been identified and multiple broad alternatives are under consideration in several corridors. While scoping normally follows issuance of a notice of intent, which must describe the proposed action, it “may be initiated earlier, as long as there is appropriate public notice and enough information available on the proposal so that the public and relevant agencies can participate effectively.” Council on Environmental Quality, “Forty Most Asked Questions Concerning CEQ's National Environmental Policy Act Regulations,” 46 FR 18026, 18030 (1981) (Answer to Question 13). Available information is more than adequate to permit the public and relevant agencies to participate effectively in early scoping.

The Detroit Transit Options for Growth Study and Subsequent Developments

The Detroit Transit Options for Growth (DTOG) Study identifies 14 corridors in the study area that includes the cities of Dearborn, Detroit, Hamtramck, and Highland Park and encompasses approximately 160 square miles. The study-area population is over 1 million and estimated employment stands at nearly 500,000 jobs. Transit service in the study area is provided by buses, which have strong ridership and serve many people who depend on transit for their trips. The Detroit People Mover, a 2.9 mile elevated rail circulator in downtown Detroit, also provides transit service, but no rapid transit service is available within the study area. The DTOG Study represents a major step to promote regional and local rapid transit improvements in Southeast Michigan for the purposes of addressing existing, as well as projected congestion, and improving air quality, or at least not degrading it any further.

In the summer of 2006, DDOT initiated State and local planning required for anticipated New Starts transit projects to be eligible for Federal funding assistance under 49 U.S.C. 5309. The objective of beginning early planning efforts was to advance the realization of regional and local rapid transit improvements to serve current and future population and employment centers and destinations by narrowing options developed in the DTOG Study. Following a multi-phase screening process that included public participation, it was determined that three priority corridors (of the 14 identified in the DTOG Study) would be advanced for further study. The three alignments include: (1) The Woodward Avenue Corridor from downtown Detroit to Eight Mile Road; (2) a combined Woodward and Michigan Avenues Corridor from downtown Detroit to Grand Boulevard near the New Center area and on Michigan Avenue from downtown Detroit to the City of Dearborn near Fairlane Mall and University of Michigan Dearborn; and (3) a combined Woodward and Gratiot Avenues Corridor from downtown Detroit to Grand Boulevard near the New Center area and the Gratiot Avenue Corridor from downtown Detroit to Eight Mile Road. It was further determined that potential rapid transit modes that would meet the objectives of the DTOG Study included Bus Rapid Transit (BRT), Light Rail Transit (LRT), and modern streetcar. A public participation program has been developed and initiated with a Web site, newsletter, and public meetings and stakeholder meetings. A technical committee has been established and meets monthly.

State and Local Planning and Early Scoping

Public planning for an anticipated New Starts transit project in the Detroit area continues. The public planning process resembles in some respects alternatives analysis required by the NEPA process, except that the former evaluates alternatives broadly by examining several modal and alignment options for addressing defined mobility needs in a particular corridor. Essentially, State and local planning produces a clearly defined project problem statement for use in New Starts in alternative analysis whereas consideration of project alternatives under NEPA calls for a concise statement of purpose and need. Nevertheless, to the extent that State and local planning efforts can lead toward a well-defined purpose and need statement and satisfy requirements of the NEPA process, including scoping, it should not have to be duplicated subsequently in that process. See 40 CFR 1506.2(b) (“Agencies shall cooperate with State and local agencies to the fullest extent possible to reduce duplication between NEPA and State and local requirements.”). Early scoping provides a means through which duplication, waste, and delay that could otherwise be experienced in situations such as this may be avoided.

Future New Starts planning alternatives analysis will examine alignments, technologies, station locations, costs, funding, ridership, economic development, land use, engineering feasibility, and environmental factors in a selected corridor. During alternatives analysis, DDOT will also evaluate options for transportation improvements in the study area that do not involve significant capital investment (e.g., enhanced bus service). At the conclusion of this early scoping and alternatives analysis process, a locally preferred alternative—the “proposed action”—will be determined, as well as the appropriate NEPA process—environmental assessment or environmental impact statement—to be undertaken for the proposed action. If preparation of an environmental impact statement is warranted, a notice of intent will be published in the Federal Register and comments on the purpose and need for the proposed action, the range of alternatives to be considered, and potentially significant environmental impacts will be invited and considered.

In conjunction with issuance of this notice, and consistent with provisions of 23 U.S.C. 139, invitations will be extended to other Federal and non-Federal agencies that may have an interest in this matter to be participating agencies. A plan for coordinating public and agency participation in and comment on the environmental review process for issues and alternatives under consideration here and at subsequent phases of the process will be prepared.

Issued this 10th day of July, 2007.
Marisol R. Simon,
Regional Administrator, Region 5.

[FR Doc. E7-13766 Filed 7-16-07; 8:45 am]

BILLING CODE 4910-57-P